DEPARTMENT OF COMMERCE

International Trade Administration

[A-122-867, A-560-833, A-580-902, A-552-825]

Utility Scale Wind Towers From Canada, Indonesia, the Republic of Korea, and the Socialist Republic of Vietnam: Notice of Correction to the Antidumping Duty Orders

AGENCY: Enforcement and Compliance, International Trade Administration, Department of Commerce.

SUMMARY: The Department of Commerce (Commerce) is correcting the antidumping duty orders on utility scale wind towers (wind towers) from Canada, Indonesia, the Republic of Korea (Korea), and the Socialist Republic of Vietnam (Vietnam) to state the correct date on which the provisional measures expired.

DATES: Applicable September 11, 2020.

FOR FURTHER INFORMATION CONTACT: Michael J. Heaney at (202) 482-4475 (Canada); Benjamin Luberda at (202) 482-2185 or Brittany Bauer at (202) 482-3860 (Indonesia); Adam Simons at (202) 482-6172 or David Goldberger at (202) 482-4136 (Korea); Joshua A. DeMoss at (202) 482-3362 (Vietnam); AD/CVD Operations, Enforcement and Compliance, International Trade Administration, U.S. Department of Commerce, 1401 Constitution Avenue NW, Washington, DC 20230.

SUPPLEMENTARY INFORMATION: On August 26, 2020, Commerce published antidumping duty orders on wind towers from Canada, Indonesia, Korea, and Vietnam.¹ In the Orders, Commerce inadvertently stated that the provisional measures expired on August 12, 2020.² Commerce is correcting the Orders to clarify that August 11, 2020 is the date on which the provisional measures expired.

¹ See Utility Scale Wind Towers from Canada, Indonesia, the Republic of Korea, and the Socialist Republic of Vietnam: Antidumping Duty Orders, 85 FR 52546 (August 26, 2020) (Orders).

² See Orders, 85 FR at 52547.

In accordance with section 733(d) of the Tariff Act of 1930, as amended (the Act), we have instructed CBP to terminate the suspension of liquidation the suspension of liquidation and to liquidate, without regard to antidumping duties, unliquidated entries of wind towers from Canada, Indonesia, Korea, and Vietnam entered, or withdrawn from warehouse, for consumption on or after August 12, 2020, until and through the day preceding the date of publication of the U.S. International Trade Commission's final injury determination in the Federal Register (i.e., August 24, 2020).³ In addition we have instructed CBP to resume the suspension of liquidation and the collection of cash deposits beginning August 25, 2020, the date the ITC Final Injury Determination published in the Federal Register.

³ See Utility Scale Wind Towers from Canada, Indonesia, Korea, and Vietnam, 85 FR 52357 (August 25, 2020) (ITC Final Injury Determination).

We are hereby correcting the Orders to include the correct date on which provisional measures expired, as stated above. This notice serves as a correction and is published in accordance with section 777(i) of the Act.

Dated: September 1, 2020.
Jeffrey I. Kessler,
Assistant Secretary for Enforcement and Compliance.

[FR Doc. 2020-20071 Filed 9-10-20; 8:45 am]

BILLING CODE 3510-DS-P